DEPARTMENT OF COMMERCE

National Oceanic and Atmospheric Administration

50 CFR Parts 600 and 660

[Docket No. 011231309-2090-03 ;I.D. 121301A]

RIN 0648-AO69

Magnuson-Stevens Act Provisions; Fisheries off the West Coast States and in the Western Pacific; Pacific Coast Groundfish Fishery; Groundfish Fishery Management Measures; Corrections

AGENCY: National Marine Fisheries Service (NMFS), National Oceanic and Atmospheric Administration (NOAA), Commerce.

ACTION: Corrections to the 2002 specifications and management measures and the limited entry trawl trip limit table.

SUMMARY: This document contains corrections to the trawl trip limits and management measures for flatfish north and south of 40°10′ N. lat. published in the March 7, 2002, final rule implementing the 2002 Pacific Coast groundfish fishery specifications and management measures (March 7, 2002) and to the inseason action published May 7, 2002.

DATES: Effective June 14, 2002, through the effective date of the 2003 specifications and management measures for the Pacific Coast groundfish fishery, unless modified, superceded, or rescinded, in which case it will be announced in the Federal Register.

FOR FURTHER INFORMATION CONTACT: Jamie Goen (Northwest Region, NMFS), 206-526-6140.

SUPPLEMENTARY INFORMATION:

Background

The specifications and management measures for the current fishing year (January 1 - December 31, 2002) were initially published in the Federal Register as an emergency rule for January 1-February 28, 2002 (67 FR 1540, January 11, 2002), and as a proposed rule for all of 2002 (67 FR 1555, January 11, 2002) that was finalized effective March 1, 2002 (67 FR 10490, March 7, 2002). In the meantime, the emergency rule was amended at 67 FR 3820 (January 28, 2002) and at 67 FR 7289 (February 19, 2002). The final rule was subsequently amended at 67 FR 15338 (April 1, 2002) and, at 67 FR 30604 (May 7, 2002).

The final rule (67 FR 10490, March 7, 2002) and the subsequent inseason action (67 FR 30604, May 7, 2002) contained errors that need correction. More specifically, corrections to the limited entry trawl regulatory language on large footrope restrictions in the final rule and to the trip limit table (Table 3) in the inseason action are needed to clarify the Council’s intent for limited entry trawl, large footrope flatfish limits north and south of 40°10′ N. lat.

Corrections

In the final rule, FR Doc. 02-5302, in the issue of Thursday, March 7, 2002 (67 FR 10490) make the following correction:

1. On page 10512, in the third column, under section IV. NMFS Actions(A)(14), the second sentence of paragraph (b)(i) is corrected to read as follows:

* * * * *

(b) * * *

(i) Large footrope trawl.* * * It is unlawful to take and retain, possess or land petrale sole, rex sole, or arrowtooth flounder from a fishing trip if large footrope gear is onboard and the trip is conducted at least in part between May 1 and October 31; cumulative limits for “all other flatfish” (all flatfish except those with cumulative trip limits in Table 3 to section IV) and arrowtooth flounder (during January-April and September-December) are lower for vessels with large footrope gear on board throughout the year (See Table 3).

* * * * *

In the inseason action rule, FR Doc. 02-11218, in the issue of Tuesday, May 7, 2002 (67 FR 30604) make the following correction:

1. On page 30609, in line 34 (All other flatfish-North and South: large footrope) in Table 3 is removed and the large footrope information previously contained in line 34 is added under the headers “Flatfish-North” and “Flatfish-South” to read as follows:

BILLING CODE 3510-22-S

Authority: 16 U.S.C. 1801 et seq.

Dated: June 7, 2002.
William T. Hogarth,
Assistant Administrator for Fisheries, National Marine Fisheries Service.

[FR Doc. 02-14961 Filed 6-13-02; 8:45 am]

BILLING CODE 3510-22-C